DEPARTMENT OF COMMERCE

National Oceanic and Atmospheric Administration

[Docket No.: 0612242720-9119-02]

Availability of Grant Funds for Fiscal Year 2009; Correction

AGENCY: National Oceanic and Atmospheric Administration; Department of Commerce.

ACTION: Notice; Correction.

SUMMARY: The National Oceanic and Atmospheric Administration published a document in the Federal Register of January 2, 2009 entitled Availability of Grant Funds for Fiscal Year 2009. The information concerning the Coastal and Estuarine Land Conservation Program FY 2010 competition, which appears in the program listing for the National Ocean Service, contained a reference to an incorrect fiscal year. The correct fiscal year for the program is FY 2009.

DATES: As published in the January 2, 2009 Federal Register, applications must be received and validated by Grants.gov on or before 6 p.m. EST on March 31, 2009. Applications submitted through Grants.gov will have a date and time indication on them.

ADDRESSES: Applications may be submitted electronically through Grants.gov online at: http.//www.grants.gov or by mailing an original and four copies of each proposal to Attn: Elaine Vaudreuil, NOAA, Ocean and Coastal Resource Management, National Policy and Evaluation Division (N/ORM7), 1305 East-West Highway, SSMC4, Station 10657, Silver Spring, MD 20910.

FOR FURTHER INFORMATION CONTACT: Elaine Vaudreuil, Phone: (301) 713-3155 ext 103, e-mail: Elaine.Vaudreuil@noaa.gov.

SUPPLEMENTARY INFORMATION:

Correction

In the Federal Register of January 2, 2009 (74 FR 72, 82), the document entitled Availability of Grant Funds for Fiscal Year 2009 contained an error in the National Ocean Service's entry for its Coastal and Estuarine Land Conservation Program FY 2010 competition. The Funding Availability section of the solicitation incorrectly referenced FY 2010. This notice corrects this error. The forth sentence of the first paragraph of the “Funding Availability” section is corrected to read:

“The FY 2009 President's Request for the program is $15 million.”

All other information and requirements of the January 2, 2009 solicitation remain unchanged.

Administrative Procedure Act

Prior notice and an opportunity for public comment are not required by the Administrative Procedure Act for rules concerning public property, loans, grants, benefits, and contracts (5 U.S.C. 553(a)(2)). Because notice and opportunity for comment are not required pursuant to 5 U.S.C. 553 or any other law, the analytical requirements of the Regulatory Flexibility Act (5 U.S.C. 601 et seq.) are inapplicable. Therefore, a regulatory flexibility analysis is not required and has not been prepared.

Dated: February 10, 2009.
Christopher C. Cartwright,
Associate Assistant Administrator for Management and CFO/CAO, Ocean Services and Coastal Zone Management.

[FR Doc. E9-3206 Filed 2-17-09; 8:45 am]

BILLING CODE 3510-22-M